AGENCY FOR INTERNATIONAL DEVELOPMENT

22 CFR Part 212

RIN 0412-AB00

Procedures for the Review and Clearance of USAID's Guidance Documents; Rescission

AGENCY: U.S. Agency for International Development (USAID).

ACTION: Final rule; rescission.

SUMMARY: This rule is to rescind the regulation published on January 5, 2021, titled “Procedures for the review and clearance of USAID's Guidance Documents.” This action is necessary to comply with the Executive order (E.O.) titled “Revocation of Certain Executive Orders Concerning Federal Regulation,” signed on January 20, 2021, which specifically requires the revocation of the E.O. titled “Promoting the Rule of Law Through Improved Agency Guidance Documents,” signed on October 9, 2010. To comply with the new E.O., USAID is removing its regulations setting forth processes and procedures for USAID to issue guidance documents as defined in October 2010 E.O.

DATES: This final rule is effective April 9, 2021.

FOR FURTHER INFORMATION CONTACT: Jenna Giandoni, jgiandoni@usaid.gov, 202-921-5093.

SUPPLEMENTARY INFORMATION:

Background

On October 9, 2019 (84 FR 55235), President Trump issued Executive Order (E.O.) 13891, Promoting the Rule of Law Through Improved Agency Guidance Documents. Section 4 of that E.O. required each Department or Agency to put in place processes and procedures for issuing guidance documents as defined by the E.O., including a self-imposed version of a notice-and-comment process for a range of policies that are not otherwise required to go through notice-and-comment rulemaking under the Administrative Procedure Act, 5 U.S.C. 553, et seq. (e.g., policies related to agency management, among others, which are expressly exempted). USAID implemented this directive by amending 22 CFR part 212 to add subparts N and O.

On January 20, 2021 (86 FR 7049), President Biden signed the E.O. 13992, Revocation of Certain Executive Orders Concerning Federal Regulation, which among other things, revokes E.O. 13891, Promoting the Rule of Law Through Improved Agency Guidance Documents, signed on October 9, 2010, by President Trump. To comply with the new E.O., USAID rescinds the final rule titled “Procedures for the Review and Clearance of USAID's Guidance Documents” by removing subparts N and O of 22 CFR part 212, which USAID added in the final rule dated January 5, 2021 (86 FR 250), pursuant to directives in the now-repealed E.O. 13891.

Notice and Comment Not Required

This rule relates to internal Agency management. Therefore, pursuant to Section 553(a)(2) of Title 5 of the United States Code (U.S.C.), notice of proposed rulemaking and opportunity to comment are not required. The original rule was also done without notice and comment under this rationale.

Regulatory Flexibility Act

Because notice-and-comment rulemaking is not necessary for this rule, the provisions of the Regulatory Flexibility Act, Section 604 of Title 5 of the U.S.C. do not apply.

Paperwork Reduction Act

This final rule imposes no new reporting or recordkeeping requirements that necessitate clearance by OMB.

List of Subjects in 22 CFR Part 212

Administrative practice and procedure, Freedom of information.

In consideration of the foregoing, and under the authority of E.O. 13992, the U.S. Agency for International Development (USAID) amends 22 CFR part 212 as follows:

PART 212—PUBLIC INFORMATION

1. The authority citation for part 212 continues to read as follows:

Authority: Pub. L. 114-185, 130 Stat. 538.

Subpart N [Removed]

2. Subpart N, consisting of § 212.25, is removed.

Subpart O [Removed]

3. Subpart O, consisting of §§ 212.26 through 212.40, is removed.

Ruth Buckley,
Acting Performance Improvement Officer/Acting Office Director, Bureau for Management Office of Management Policy, Budget and Operational Performance.

[FR Doc. 2021-07314 Filed 4-8-21; 8:45 am]

BILLING CODE P